DEPARTMENT OF VETERANS AFFAIRS

Veterans' Advisory Committee on Education; Notice of Meeting

The Department of Veterans Affairs gives notice under Public Law 92-463 (Federal Advisory Committee Act) that the Veterans' Advisory Committee on Education will meet on May 20-21, 2008. The May 20 session will be held at Fort Hood in Killeen, Texas, at the Howze Auditorium from 9:45 a.m. to 12:15 p.m. It will continue at the Soldier Development Center, Bldg. 33009, room G-254, second floor, from 1:15 p.m. to 4:30 p.m. The May 21 session will be held at the Hyatt Place North Central in Austin, Texas, from 8:30 a.m. to 3 p.m. The meeting is open to the public.

The purpose of the Committee is to advise the Secretary of Veterans Affairs on the administration of education and training programs for veterans, servicepersons, reservists, and dependents of veterans under Chapters 30, 32, 35, and 36 of title 38, and Chapter 1606 of title 10, United States Code.

On May 20, the meeting will begin with opening remarks and an overview by Mr. James Bombard, Committee Chair. The agenda for this meeting will include an introduction of new members and a “town hall” forum at 11 a.m. with active duty, reservists and National Guard personnel. The agenda will also include an overview of pending legislation affecting the educational assistance programs VA administers and licensing and certification opportunities. Oral statements from the public will be heard at 4:15 p.m. on May 20. On May 21, the Committee will reconvene and hold a second “town hall” forum beginning at 9 a.m. The Committee will then review and summarize issues raised during these sessions. Oral statements from the public will be heard at 2:45 p.m. on May 21.

Interested persons may submit written statements to the Committee before the meeting, or within 10 days after the meeting, with Mr. Salminio Gamer, Designated Federal Officer, Department of Veterans Affairs, Veterans Benefits Administration (225B), 810 Vermont Avenue, NW., Washington, DC 20420. Any member of the public wishing to attend the meeting should contact Mr. Salminio Garner or Mr. Barrett Bogue at (202) 461-9832.

Dated: April 30, 2008.
By direction of the Secretary.
E. Philip Riggin,
Committee Management Officer.

[FR Doc. E8-10162 Filed 5-8-08; 8:45 am]

BILLING CODE 8320-01-M